DEPARTMENT OF ENERGY

Federal Energy Regulatory Commission

Notice of FERC Staff Participation at MISO-PJM-SPP Single Market Design Forum Meeting

August 15, 2002.

The Federal Energy Regulatory Commission hereby gives notice that on August 22, 2002, members of its staff will attend the MISO-PJM-SPP Single Market Design Forum meeting, concerning the development of a joint and common wholesale energy market for the Midwest Independent Transmission System Operator, Inc. (MISO), PJM Interconnection (PJM) and Southwest Power Pool, Inc. (SPP) regions. The staff's attendance is part of the Commission's ongoing outreach efforts. The meeting is sponsored by MISO, PJM and SPP, and will be held on August 22, 2002, 10:00 a.m. at the Sheraton Suites International, 7032 Elm Road, Baltimore, MD 20240. This meeting is open to the public. The meeting may discuss matters at issue in Docket No. RM01-12-000, Remedying Undue Discrimination Through Open Access Transmission Service and Standard Electricity Market Design, and in Docket No. EL02-65-000, et al., Alliance Companies, et al.

For more information, contact Mike Gahagan, Vice President, Chief Information Officer & Chief Strategic Officer, Midwest Independent Transmission System Operator, Inc. at (317) 249-5450, or Lawrence R. Greenfield, Senior Counsel, Federal Energy Regulatory Commission at (202) 502-6415 or lawrence.greenfield@ferc.gov.

Dated:
Linwood A. Watson, Jr.,
Deputy Secretary.

[FR Doc. 02-21271 Filed 8-20-02; 8:45 am]

BILLING CODE 6717-01-P